DEPARTMENT OF JUSTICE

Office of Justice Programs

[OJP (OJJDP) Docket No. 1764 ]

Meeting of the Federal Advisory Committee on Juvenile Justice

AGENCY: Office of Juvenile Justice and Delinquency Prevention, Department of Justice.

ACTION: Notice of meeting.

SUMMARY: The Office of Juvenile Justice and Delinquency Prevention has scheduled a meeting of the Federal Advisory Committee on Juvenile Justice (FACJJ).

DATES: Thursday September 12th, 2019 at 11:00 a.m.-Noon EDT.

ADDRESSES: The meeting will take place remotely via webinar.

FOR FURTHER INFORMATION CONTACT: Visit the website for the FACJJ at www.facjj.ojp.gov or contact Elizabeth Wolfe, Designated Federal Official (DFO), OJJDP, by telephone at (202) 598-9310, email at elizabeth.wolfe@ojp.usdoj.gov; or Maegen Barnes, Senior Program Manager/Federal Contractor, by telephone (732) 948-8862, email at maegen.barnes@bixal.com, or fax at (866) 854-6619. Please note that the above phone/fax numbers are not toll free.

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.ojp.gov.

FACJJ meeting agendas are available on www.facjj.ojp.gov. Agendas will generally include: (a) Opening remarks and introductions; (b) Presentations and discussion; and (c) member announcements.

The meeting will be available online via Adobe Connect, a video conferencing platform. Members of the public who wish to participate must register in advance of the meeting online at FACJJ Meeting Registration, no later than Friday September 6th, 2019. Should issues arise with online registration, or to register by fax or email, the public should contact Maegen Barnes, Senior Program Manager/Federal Contractor (see above for contact information).

Interested parties may submit written comments and questions in advance to Elizabeth Wolfe (DFO) for the FACJJ, at the contact information above. If faxing, please follow up with Maegen Currie, Senior Program Manager/Federal Contractor (see above for contact information) in order to assure receipt of submissions. All comments and questions should be submitted no later than 5:00 p.m. EDT on Friday September 6th, 2019.

The FACJJ will limit public statements if they are found to be duplicative. Written questions submitted by the public while in attendance will also be considered by the FACJJ.

Elizabeth Wolfe,
Training and Outreach Coordinator, Office of Juvenile Justice and Delinquency Prevention.

[FR Doc. 2019-18149 Filed 8-22-19; 8:45 am]

BILLING CODE 4410-18-P